DEPARTMENT OF COMMERCE

National Oceanic and Atmospheric Administration

Alcoa Point Comfort/Lavaca Bay NPL Site, Point Comfort, Texas: Notice of Availability and Request for Comments on a Draft Damage Assessment and Restoration Plan/Environmental Assessment for Ecological Injuries and Service Losses

AGENCIES: National Oceanic and Atmospheric Administration (NOAA), Commerce; United States Department of the Interior (DOI); Texas Parks and Wildlife Department (TPWD); Texas General Land Office (TGLO); Texas Natural Resources and Conservation Commission (TNRCC).

ACTION: Notice of availability of a Draft Damage Assessment and Restoration Plan and Environmental Assessment for ecological injuries and service losses associated with the Alcoa Point Comfort/Lavaca Bay NPL Site, and of a 30-day period for public comment on the draft plan beginning July 14, 2000.

SUMMARY: Pursuant to 43 CFR 11.32 and 11.81—.82, notice is hereby given that a document entitled, “Draft Damage Assessment and Restoration Plan and Environmental Assessment for the Point Comfort/Lavaca Bay NPL Site Ecological Injuries and Service Losses” (Draft DARP/EA) is available for public review and comment. This document has been prepared by the state and federal natural resource trustee agencies listed above to address natural resource injuries and resource services losses of an ecological nature attributable to releases of hazardous substances from the Alcoa Point Comfort/Lavaca Bay NPL Site (Site). This Draft DARP/EA presents the Trustees' assessment of the natural resource injuries and service losses attributable to the Site, and their proposed plan to compensate for those losses by restoring ecological resources and services. In an effort to expedite completion of the restoration planning process for this Site, the current document also includes an evaluation of the terrestrial resource injuries and ecological losses after 1999, and their corresponding restoration requirements, based on an anticipated final remedy. The need for a future Draft DARP/EA to complete restoration planning will be determined based on the final remedy decision for the Site and the consistency of this evaluation with that decision. The Trustees will consider comments received during the public comment period, including this evaluation, before finalizing the DARP/EA for these ecological losses.

DATES: Comments on the Draft DARP/EA must be submitted in writing on or before August 14, 2000.

ADDRESSES: Requests for copies of the Draft DARP/EA should be sent to Richard Seiler of TNRCC, MC142, P.O. Box 13087, Austin, TX 78711-3087 or John Kern of NOAA, 9721 Executive Center Drive North, Suite 134, St. Petersburg, FL 33702. Written comments on the plan should be sent either to Richard Seiler of TNRCC or John Kern of NOAA at the addresses listed above.

SUPPLEMENTARY INFORMATION: The Alcoa Point Comfort/Lavaca Bay NPL Site is located in Point Comfort, Calhoun County, Texas and encompasses releases of hazardous substances from Alcoa's Point Comfort Operations facility. Between 1948 and the present, Alcoa has constructed and operated several types of manufacturing processes at this facility, including aluminum smelting, carbon paste and briquette manufacturing, gas processing, chlor-alkali processing, and alumina refining. Past operations at the facility have resulted in the release of hazardous substances into the environment, including through the discharge of mercury-containing wastewater into Lavaca Bay from 1966 to 1970 and releases of mercury into the bay through a groundwater pathway. In April 1988, the Texas Department of Health (TDH) issued a “closure order” prohibiting the taking of finfish and crabs for consumption from a specified area of Lavaca Bay near the facility due to elevated mercury concentrations found in these species.

The Alcoa Point Comfort/Lavaca Bay Site was added to the National Priorities List (NPL), pursuant to Section 105 of the Comprehensive Environmental Response, Compensation and Liability Act (CERCLA), 42 U.S.C. 9601 et seq., on March 25, 1994 (59 FR 8724; February 23, 1994). The Site was listed primarily due to the presence of mercury in several species of finfish and crabs in Lavaca Bay, the fishing closure imposed by TDH, and the presence of mercury and other hazardous substances in bay sediments adjacent to the facility. Alcoa, the State of Texas and the U.S. Environmental Protection Agency (EPA) signed an Administrative Order on Consent (AOC) under CERCLA in March 1994 for the conduct of a remedial investigation and feasibility study (RI/FS) for the Site.

NOAA, DOI, TPWD, TGLO and TNRCC (collectively, the Trustees) are designated natural resource trustees under section 107(f) of CERCLA, section 311 of the Federal Water Pollution and Control Act (FWPCA), 33 U.S.C. 1321, and other applicable federal or state laws, including Subpart G of the National Oil and Hazardous Substances Pollution Contingency Plan (NCP), 40 CFR 300.600—300.615. The Trustees are authorized to act on behalf of the public under these authorities to protect and restore natural resources injured or lost as a result of discharges or releases of hazardous substances.

Paralleling the RI/FS process for the Site, the Trustees have undertaken an assessment of the natural resource injuries and service losses attributable to hazardous substances at the Site. The assessment for this Site has been aided and supported by Alcoa's cooperation pursuant to a Memorandum of Agreement between Alcoa and the Trustees, which was effective January 14, 1997. The Draft DARP/EA released today has been developed under the cooperative assessment framework outlined in the MOA. It is focused on natural resource injuries or services losses of an ecological nature caused by the hazardous substances at the Site based on known contamination and response actions initiated at the Site as of the end of 1999. The Draft DARP/EA released today embodies the second stage of the assessment and restoration planning process for the Site. The first stage focused on the recreational fishing service losses resulting from the closure area and is covered by a Draft DARP/EA for Recreational Service Losses released on September 28, 1999, and a Revised Draft DARP/EA for Recreational Service Losses released on May 12, 2000. Finalization of the DARP/EA for Recreational Service Losses is anticipated to occur in July 2000.

The Draft DARP/EA released today identifies the information and methods being used to define the natural resource injuries and losses of an ecological nature, including the scale of restoration actions, and identifies the restoration actions which are preferred for use to restore, replace or acquire resources or services equivalent to those lost. The current document also includes an evaluation of the terrestrial resource injuries and remaining ecological losses, including their corresponding restoration requirements, based on an anticipated final remedy. If the final remedy differs from that which the Trustees' have anticipated, then the analysis may not be appropriate and a third and final stage Draft DARP/EA may be required. However, if the analysis is consistent with the actual choice of final remedy, then by including this information for public review in the current document, there will be no need to develop any further Draft DARP/EAs to complete the assessment and restoration planning process for this Site.

FOR FURTHER INFORMATION CONTACT: Richard Seiler at (512) 239-2523, email: rseiler@tnrcc.state.tx.us or John Kern, at (727) 570-5391 x 158, email: john.kern@noaa.gov

Dated: July 10, 2000.
Captain Ted I. Lillestolen,
Deputy Assistant Administrator for Ocean Services and Coastal Zone Management.

[FR Doc. 00-17833 Filed 7-13-00; 8:45 am]

BILLING CODE 3510-JE-U